DEPARTMENT OF COMMERCE

National Oceanic and Atmospheric Administration

50 CFR Part 660

[Docket No. 250209-0098]

RIN 0648-BN25

Fisheries Off West Coast States; West Coast Salmon Fisheries; Rebuilding Plan for the Overfished Queets River Spring/Summer Chinook Salmon Stock

AGENCY: National Marine Fisheries Service (NMFS), National Oceanic and Atmospheric Administration (NOAA), Commerce.

ACTION: Proposed rule; request for comments.

SUMMARY: NMFS proposes to approve and implement the rebuilding plan recommended by the Pacific Fishery Management Council (Council) for the overfished Queets River Spring/Summer Chinook salmon stock (Queets sp/su Chinook salmon). NMFS determined in October 2023 that this stock was overfished. The rebuilding plan will be part of the framework that guides the development of annual management measures for ocean salmon fisheries until NMFS determines that the overfished stock is rebuilt.

DATES: Comments on this proposed rule must be received on or before March 23, 2026.

ADDRESSES: A plain language summary of this proposed rule is available at https://www.regulations.gov/docket/NOAA-NMFS-2024-0113. You may submit comments on this document, identified by NOAA-NMFS-2024-0113, by any of the following methods:

Electronic Submission: Submit all electronic public comments via the Federal e-Rulemaking Portal. Visit https://www.regulations.gov and type NOAA-NMFS-2024-0113 in the Search box. Click on the “Comment” icon, complete the required fields, and enter or attach your comments. NOAA-NMFS-2024-0113.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the draft rebuilding plan may be obtained from the West Coast Regional Office website at https://www.fisheries.noaa.gov/action/rebuilding-plan-overfished-queets-river-spring-summer-chinook-salmon-stock.

FOR FURTHER INFORMATION CONTACT: Shannon Penna, Fishery Management Specialist, at 562-980-4239, or Shannon.Penna@noaa.gov.

SUPPLEMENTARY INFORMATION:

Background

The Magnuson-Stevens Fishery Conservation and Management Act (MSA) established a national program for the conservation and management of the fishery resources of the United States to prevent overfishing and to rebuild overfished stocks. To that end, the MSA requires fishery management plans (FMPs) to specify objective and measurable criteria for identifying when the fishery to which the FMP applies is overfished (MSA section 303(a)(10)). The MSA includes national standards which must be followed in any FMP. NMFS has developed guidelines, based on the national standards, to assist in the development and review of FMPs, amendments, and regulations prepared by Councils and the Secretary (50 CFR 600.305(a)(1)). National Standard 1 (NS1) addresses the need under the MSA for FMPs to specify conservation and management measures that shall prevent overfishing while achieving, on a continuing basis, the optimum yield from each fishery for the U.S. fishing industry (50 CFR 600.310). The NS1 guidelines include status determination criteria (SDC) and other reference points that are used to determine if overfishing has occurred, or if the stock or stock complex is overfished (50 CFR 600.310(e)(2)) and specifies Council actions required to address overfishing and rebuilding for stocks and stock complexes (50 CFR 600.310(j)).

Ocean salmon fisheries in the U.S. Exclusive Economic Zone (EEZ) off Washington, Oregon, and California are governed by the Council's Pacific Coast Salmon FMP (Salmon FMP). The Salmon FMP identifies stocks included in the fisheries that are managed under the Salmon FMP and the SDC and reference points that are used to determine when a stock is overfished and when it is rebuilt. For salmon, these metrics are based on the stock's spawning escapement (i.e., fish that escape the ocean and in-river fisheries to spawn) and the abundance of adult spawners that are expected, on average, to produce maximum sustainable yield (MSY), which is expressed as SMSY.

The SDC for overfished is defined in the Salmon FMP to be when the 3-year geometric mean of a salmon stock's annual spawning escapements falls below the minimum stock size threshold (MSST), where MSST is generally defined as 0.5*SMSY or 0.75*SMSY—depending on the stock. The default SDC in the Salmon FMP for determining that an overfished stock is rebuilt is when the 3-year geometric mean spawning escapement exceeds SMSY. Stock-specific values for the SMSY and MSST reference points are listed in table 3-1 of the Salmon FMP. The status of salmon stocks is assessed annually. When NMFS determines that a stock is overfished, by virtue of meeting the overfished criteria in the Salmon FMP, described above, NMFS notifies the Council. The MSA requires Councils to develop and implement a rebuilding plan within 2 years of being notified by NMFS that a stock is overfished.

Overfished Determination

The annual stock assessment for Queets sp/su Chinook salmon in 2023 used escapement data for 2019 through 2021 to determine if the stock was overfished. The 3-year geometric mean spawning escapement for Queets sp/su Chinook salmon for the 2019-2021 period was 314, which is less than the stock's MSST of 350. NMFS notified the Council that this stock was overfished on October 13, 2023, and the overfished determination was announced in the Federal Register on June 28, 2024 (89 FR 53961). To be determined to be rebuilt, this stock must achieve a 3-year geometric mean escapement of SMSY or greater. SMSY for Queets sp/su Chinook salmon is 700.

Table 3-1 of the Salmon FMP defines the following conservation objectives and reference points governing status determination criteria for Queets sp/su Chinook salmon:

• SMSY = 700

• MSST = 350

• Maximum fishing mortality threshold (FMSY Proxy) = 78 percent

The SMSY escapement goal of 700 for Queets sp/su Chinook salmon was derived based on a spawner-recruit analysis for brood years 1969 to 1976, developed in 1982 by the Quinault Department of Natural Resources. This SMSY escapement goal is also used by the Pacific Salmon Commission (PSC) and was reviewed and accepted by the PSC's Chinook Technical Committee in 2004. For Queets sp/su Chinook salmon, the MSST is defined as half of SMSY, which equates to 350 fish. The FMSY proxy is based on the mean of FMSY values calculated for 20 stocks of Chinook salmon from the Sacramento River to Northern Washington.

On May 1, 2025, the overfished determination was changed to `not overfished-rebuilding,' based on the most recent 3-year (2021-2023) geometric mean (Review of 2024 Ocean Salmon Fisheries Stock Assessment and Fishery Evaluation Document for the Pacific Coast Salmon Fishery Management Plan (SAFE document)). The rebuilding plan will remain in place until the stock is determined to be rebuilt.

Fishery Management

There is uncertainty regarding the distribution of ocean fishery impacts to Queets sp/su Chinook salmon due to the lack of a designated exploitation rate (ER) indicator stock. Under the assumption that Queets River fall Chinook salmon are a suitable surrogate, U.S. west coast ocean salmon fisheries for which the Pacific Fishery Management Council has responsibility likely impact Queets sp/su Chinook salmon in the EEZ mainly in the area north of Cape Falcon, Oregon. A significant portion of the stock's fishing mortality is likely to occur in southeast Alaska and British Columbia ocean salmon fisheries, and a minor portion is taken in ocean salmon fisheries off Washington, based on using Queets River fall Chinook salmon as a surrogate (Salmon FMP table 1-1, Pacific Fisheries Management Council 2024). Management of this stock is subject to the Pacific Salmon Treaty (PST) between the United States and Canada, and also must be consistent with Indian Tribal treaty fishing rights. The State of Washington and Indian Tribes with reserved fishing rights on the Washington coast and in Puget Sound negotiate management objectives and State/Tribal sharing of the salmon fishery resource through the North of Falcon Process and under the auspices of Hoh v. Baldrige and U.S. v. Washington. An escapement goal for Queets sp/su Chinook has been established under the PST, and is the same (700) as the goal in the FMP. The salmon fisheries in the U.S. west coast EEZ are managed consistent with the Tribal/State agreements and with limits and objectives set under the PST, in addition to the conservation objectives and other parameters set under the MSA. The escapement goal has been achieved for this stock in only four of the last 25 years (i.e., 2002, 2012, 2016 and 2017) despite significant reductions in in-river fisheries and likely minor catch levels in ocean fisheries in the U.S. west coast EEZ. 2025 Review of Fisheries, Table B-29, p. 250. In most years, natural escapement has been well below the goal.

Rebuilding Plan

The Council transmitted their recommended rebuilding plan to NMFS on July 25, 2025. The plan was developed throughout several Council meetings in 2023 and 2024 and was informed by the analyses of the Council's Salmon Technical Team (STT). The STT held public meetings and work sessions with State and Federal agencies, Tribal governments, and the general public to assess available information on various factors that could impact the productivity of these stocks and lead to the overfished determination. These factors included freshwater survival, marine survival, and harvest impacts.

Overfishing on Queets sp/su Chinook salmon, defined as the ER on a stock exceeding the maximum fishing mortality threshold, is not likely to have occurred during the years that led to the overfished determination. The STT's report concluded that the potential factors that led to an overfished situation for this stock was caused by 3 consecutive years of poor ocean conditions from 2015 to 2017 corresponding closely with and potentially contributing to the below-average spawning escapement that occurred from 2019 to 2021, and unfavorable freshwater conditions in 4 years between 2014 and 2019 that likely caused a negative impact on spawning and rearing success in those years.

The STT's report is contained within the draft rebuilding plan (see ADDRESSES).

The Council considered two alternatives for the rebuilding plan: (1) the existing management framework, and (2) suspending all non-Tribal treaty Council-area ocean salmon fisheries north of Cape Falcon.

Alternative I: Status Quo. During the rebuilding period, continue to use the current management framework and reference points, as defined in the Salmon FMP and the PST, to develop annual fishery regulations. Under this scenario, the results of the rebuilding time analysis suggest that the probability of achieving rebuilt status stabilizes at a maximum of approximately 1 percent in year 4.

Alternative II: Suspend non-Tribal treaty salmon fisheries in the EEZ north of Cape Falcon to minimize the impacts of fisheries within the purview of the Council to the extent feasible on Queets sp/su Chinook salmon until the stock meets the criteria for rebuilt status. This is considered an `action' alternative. Because data does not exist to inform the estimation of the ER from the fisheries in the west coast EEZ on Queets sp/su Chinook, the STT identified the high and low ends of a range of possible ERs. For Alternative II, the STT evaluated the rebuilding time under two different scenarios; one assuming the high end of the ER range, and the other assuming the low end of that range. The probabilities of achieving rebuilt status under this Alternative stabilize under a similar timeframe as Alternative I (after 4 years) at a maximum of 1 percent for the low ER scenario (assuming lower impacts from Council-area fisheries) and 2 percent for the high ER scenario (assuming higher impacts from Council-area fisheries). See Rebuilding Plan table 4.5.

The Council's recommendation for the rebuilding plan for Queets sp/su Chinook salmon, which NMFS proposes to approve, is Alternative I. This alternative meets the MSA requirement to rebuild the stock as quickly as possible, taking into account the status and biology of any overfished stock and the needs of fishing communities (50 CFR 600.310(j)(3)(i)). The Council did not recommend Alternative II because it would result in considerable negative impact to the fishing communities while providing little to no benefit with regards to increasing the projected rebuilding probability or shortening the time to rebuilding. The stock will be rebuilt when the 3-year geometric mean of natural-area adult escapement meets or exceeds SMSY, the default rebuilt criterion in the Salmon FMP.

When a stock or stock complex is overfished, a Council must specify a time period for rebuilding the stock or stock complex based on factors specified in MSA section 304(e)(4). This target time for rebuilding (Ttarget) shall be as short as possible, taking into account the status and biology of any overfished stock, the needs of fishing communities, recommendations by international organizations in which the U.S. participates, and interaction of the stock within the marine ecosystem. In addition, the time period shall not exceed 10 years, except where the biology of the stock, other environmental conditions, or management measures under an international agreement to which the U.S. participates, dictate otherwise (50 CFR 600.310(j)(3)(i)). The NS1 guidelines also describe the following rebuilding benchmarks: the minimum time to rebuild (Tmin) and the maximum time to rebuild (Tmax) (50 CFR 600.310(j)(3)(i)). These benchmarks serve to establish the range of target times to rebuild that the Council may consider. Under the NS1 guidelines, Tmin is calculated by assuming no fishery mortality, regardless of the source of the mortality. It is not possible, however, to implement a Tmin scenario through a rebuilding plan applicable to the EEZ off the west coast; because this stock is impacted in fisheries occurring off Alaska and Canada, and in-river. Additionally, it is not clear that a “no fishing” regime is consistent with Tribal treaty rights. Therefore, while NMFS' authority to suspend fisheries affecting this stock is limited, the Council analyzed a `no-fishing' alternative to identify Tmin and to serve as a bookend in the analysis of rebuilding probabilities.

Council-area salmon fisheries are set annually each April. The Council's SAFE document is released annually in February and provides escapement data for the previous year. Analyses to determine rebuilding times in the Council's recommended rebuilding plan used the most recent available escapement data for Queets sp/su Chinook salmon, which included estimates through the 2023 return year. As a result, year 1 in the STT's calculations of Tmin and Ttarget was defined as 2024.

Tmin. The rebuilding analysis of Tmin, as with the analysis of Alternative II, considered high and low potential ER scenarios given uncertainty regarding ERs for Queets sp/su Chinook. However, the ER scenarios used for the Tmin analysis include all ocean and freshwater fisheries impacting the stock, whereas the scenarios for Alternative II included only U.S. west coast EEZ ERs. The rebuilding analysis determined that a viable estimate of rebuilding time could only be calculated in one scenario under the assumption of high ocean ERs, as it assumes substantial total ocean fishery impacts, which, if all fisheries were closed and the impacts didn't occur, would translate into a considerable expected increase to escapements. In this case, the estimated rebuilding time was 5 years; however, there is high uncertainty in this scenario. When assuming lower ocean ERs, the probability of achieving rebuilt status did not reach the 50 percent threshold and stabilized at a maximum of approximately 15 percent, suggesting that rebuilt status may be unlikely to occur in the foreseeable future, even under a scenario with zero fishing impacts. As a result of this uncertainty, Tmin is expressed as a range, from 5 years to potentially never achieving rebuilt status.

Tmax. Given the uncertainty associated with estimating Tmin, the rebuilding plan defines Tmax as a range as well. The NS1 guidelines state that if Tmin for the stock or stock complex is 10 years or less, then Tmax is 10 years (50 CFR 600.310(j)(3)(i)(B)(1)). In the event that Tmin exceeds 10 years, NS1 guidelines offer three potential methods for determining Tmax: (1) Tmin plus one generation time, (2) the time to achieve rebuilt status if fished at 75 percent of MFMT, or (3) Tmin multiplied by two (50 CFR 600.310(j)(3)(B)(3)). In this case, the generation time may not accurately reflect the productivity of the stock, and fishing at a rate that is 75 percent of MFMT would reflect an unrealistically high ER. As a result, the rebuilding plan uses method three (Tmin multiplied by two) and defines Tmax as a range from 10 years under the assumption of high ocean ERs to potentially never achieving rebuilt status if low ERs are assumed.

Ttarget. The Council has recommended the Alternative I (status quo) management strategy alternative during the rebuilding period, which would continue use of the current management framework and reference points. The rebuilding plan does not identify a specific Ttarget, because under both alternatives the probability of achieving rebuilt status never exceeded 50 percent, and in fact the probability in both cases was quite low. This suggests the Council-area fisheries likely have limited to no effect on the rebuilding trajectory for this stock. As described above, the only scenario in which the probability of achieving rebuilt status reached 50 percent is the scenario in which all fisheries affecting the stock are closed, and a high fishery ER is assumed (in other words, closure of the fisheries would significantly increase escapement to the spawning grounds). As also discussed above, there is high uncertainty regarding the ER on this stock, so it is possible that the rebuilding time estimated for the high ER scenario significantly overestimates the impact of the fisheries on the rebuilding trajectory for the stock. Additionally, closure of all of the fisheries affecting the stock is not within NMFS' authority. For these reasons it is not possible to identify a Ttarget.

Under the proposed rebuilding plan, impacts on Queets sp/su Chinook salmon in Council-area salmon fisheries would continue to be limited by managing fisheries impacts on other stocks consistent with the escapement thresholds, ER limits, and provisions for adjustment outlined in the Salmon FMP, and consistent with the PST and other applicable laws. As discussed above, there is no difference in time to rebuild between this rebuilding plan and the alternative in which all non-Tribal treaty fisheries in the U.S. west coast EEZ would be closed. However, the impacts to fishing communities of such a closure would be significant.

The extremely limited effects of the ocean fisheries in the U.S. west coast EEZ on the escapement of this stock, and, in turn, its rebuilding trajectory, may warrant reconsideration of its classification in the Salmon FMP. Alternatively, an investigation into the feasibility of re-evaluating the reference points for this stock, as recommended by the STT in the rebuilding plan, may be warranted.

Classification

Pursuant to MSA section 304(b)(1)(A), the NMFS Assistant Administrator has determined that this proposed rule is consistent with the Salmon FMP, other provisions of the MSA, and other applicable law, subject to further consideration after public comment.

This proposed rule has been determined to be not significant for purposes of Executive Order 12866.

This proposed rule is not an Executive Order 14192 regulatory action because this rule is not significant under Executive Order 12866.

The Chief Counsel for Regulation of the Department of Commerce certified to the Chief Counsel for Advocacy of the Small Business Administration that this proposed rule, if adopted, would not have a significant economic impact on a substantial number of small entities.

As a result, an initial regulatory flexibility analysis is not required and none has been prepared.

For purposes of the Regulatory Flexibility Act analysis, and pursuant to NMFS' December 29, 2015, final rule (80 FR 81194), NMFS' small business size standard for businesses, including their affiliates, whose primary industry is commercial fishing, is $11 million in annual gross receipts. This standard applies to all businesses classified under North American Industry Classification System (NAICS) code 11411 for commercial fishing, including all businesses classified as commercial finfish fishing (NAICS 11411), commercial shellfish fishing (NAICS 114112), and other commercial marine fishing (NAICS 114119) businesses (50 CFR 220.2; 13 CFR 121.201).

This proposed rule would directly affect the west coast ocean salmon commercial troll fishery. Using the Socioeconomic Assessment of the 2024 Ocean Salmon Fisheries (chapter IV) of the Review of 2024 SAFE document for the Salmon FMP the most recent year of complete fishing data, 2024, had 241 distinct commercial vessels land fish caught in Washington and Oregon, north of Cape Falcon. The Council's SAFE document lists ex-vessel value for 2024 salmon landings at $6.1 million (in 2024 dollars). Therefore, no vessel met NMFS' threshold for being a large entity, which is $11 million in annual gross receipts. We note, however, that the rebuilding plan implemented by this proposed rule would not change harvest policy, and, thus, by definition, would have no direct or indirect economic impact on these small entities.

Because all directly regulated entities are small, these regulations are not expected to place small entities at a significant disadvantage in comparison with large entities. The Council recommended, and NMFS proposes approving, the status quo alternative for the Queets sp/su Chinook salmon rebuilding plan. This rebuilding plan is consistent with the provisions of the existing Salmon FMP. Therefore, this proposed rule to approve and implement the rebuilding plans, consistent with the parameters required under NS1, is largely administrative. This action does not change salmon harvest policy, and economic activity is not expected to change from the baseline for Queets sp/su Chinook salmon. Therefore, this action is also not expected to significantly reduce profit for the directly regulated small entities. As a result, an initial regulatory flexibility analysis is not required and none has been prepared.

This proposed rule contains no information collection requirements under the Paperwork Reduction Act of 1995.

This proposed rule was developed after meaningful consultation and collaboration with the Tribal representative on the Council, and Tribal representatives played key roles in the drafting of the rebuilding plan.

List of Subjects in 50 CFR Part 660

Fisheries, Fishing, Recordkeeping and reporting requirements.

Dated: February 17, 2026.
Sarah Malloy,
Acting Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

2. Amend § 660.413, by adding paragraph (b) to read as follows:

§ 660.413 Overfished species rebuilding plans.

* * * * *

(b) Queets River Natural Spring/Summer Chinook. The Queets River Natural Spring/Summer Chinook salmon stock was declared overfished in 2023. The rebuilding plan is to manage the fishery consistent with the FMP and this subsection. The stock will be considered rebuilt when the 3-year geometric mean of natural-area adult escapement meets or exceeds SMSY (the default criterion in the Salmon FMP).

* * * * *

[FR Doc. 2026-03296 Filed 2-18-26; 8:45 am]

BILLING CODE 3510-22-P